DEPARTMENT OF TRANSPORTATION

Federal Transit Administration

Intent To Prepare an Environmental Impact Statement on West 11th Avenue Bus Rapid Transit Corridor in the Eugene-Springfield Metropolitan Area, OR

AGENCY: Federal Transit Administration (FTA), U.S. Department of Transportation (DOT).

ACTION: Notice of Intent to prepare an environmental impact statement.

SUMMARY: The Federal Transit Administration (FTA) and Lane Transit District (LTD) intend to prepare an Environmental Impact Statement (EIS) for potential high-capacity transit improvements, including possible bus rapid transit (BRT) improvements, along the West 11th Avenue Corridor in the West Eugene area of the Eugene-Springfield metropolitan region. The project's purposes are to increase mobility and improve safety in the corridor, which runs between Eugene Station and Green Hill Road. The EIS will be prepared in accordance with the National Environmental Policy Act (NEPA) and in compliance with section 6002 of the Safe, Accountable, Flexible, Efficient Transportation Equity Act: a Legacy for Users (SAFETEA-LU). This Notice alerts interested parties regarding the plan to prepare the EIS, provides information on the nature of the proposed transit project, invites participation in the EIS process (including comments on the scope of the EIS proposed in this notice), and announces upcoming scoping meetings.

DATES: Comment due date: Written comments on the scope of the EIS, including the purpose and need for transit improvements in the corridor, the alternatives to be considered, the environmental and community impacts to be evaluated, or any other project-related issues should be sent by November 2, 2007 to Lane Transit District at the address below.

Scoping meeting dates: The first public scoping meeting will be held on October 8 at 3:00 p.m. at the location described in ADDRESSES below. Oral and written comments may be given at the scoping meetings.

ADDRESSES: Written comments should be sent to Tom Schwetz, LTD Director of Planning and Development, at PO Box 7070, Eugene, OR 97401 (or by e-mail: Tom.Schwetz@ltd.org; or fax: (541) 682-6111). Comments may also be offered at the public scoping meetings. The public scoping meetings will be:

The first public scoping meeting will be: October 8, 2007, 3 to 7 p.m., Elks Lodge #357, 2740 W. 11th Ave., Eugene, OR.

There will be at least one additional public meeting, in January 2008, at a time and place to be announced.

These meeting places are accessible to persons with disabilities. Any individual with a disability who requires special assistance, such as a sign language interpreter, should contact LTD at (541) 682-6100 or by e-mail to Tom.Schwetz@ltd.org at least 48 hours in advance of the meeting. A scoping information packet will be available before the meeting on the Lane Transit Web site (http://www.ltd.org) or by calling Tom Schwetz, LTD, at (541) 682-6100, and copies will be available at the public scoping meetings.

FOR FURTHER INFORMATION CONTACT: Tom Radmilovich, Community Planner, Federal Transit Administration, Region 10, (206) 220-4463 or tom.radmilovich@dot.gov. The LTD Web site, http://www.ltd.org, also has project information.

SUPPLEMENTARY INFORMATION: The proposed project: Known as the West Eugene EmX Extension (WEEE), this project consists of transit and safety improvements from downtown Eugene to about Green Hill Road. The West 11th Avenue Corridor, the primary east/west transit travelshed linking West Eugene to the Eugene Station, contains several major employment centers, large commercial developments, a growing residential population, and valuable natural resources.

The proposed project derives from a Regional Transportation Plan (RTP) (2001, updated 2004) which selected BRT as the preferred transit strategy for the twenty-year plan horizon. The RTP generally identified a comprehensive 61-mile system of several BRT corridors. The Franklin Corridor, already in service, connects downtown Eugene with the University of Oregon and downtown Springfield. The Pioneer Parkway Corridor, now in advanced design, should be in service by 2010. In January 2007, the Eugene City Council and the LTD Board of Directors selected the roughly six-mile-long West 11th Avenue Corridor as the next BRT priority corridor to pursue in Eugene.

Purposes of and need for the proposed project: Recent studies show the need to make improvements in the West 11th Avenue Corridor. Its traffic congestion and safety issues adversely affect general purpose traffic as well as transit. Recent and projected residential, retail, and commercial growth in the corridor make continued degradation probable, although they also have made the area a focus for local and regional land use plans that emphasize nodal and mixed-use development, all aimed at maintaining and improving the area's livability.

The proposed project would: optimize transit service in the West 11th Avenue Corridor; help fulfill the regional mandate for a comprehensive high-capacity transit system; support local and regional land use planning goals encouraging more efficient use of urban land; and support economic development opportunities in the corridor. The project's purpose and need statement will be finalized, using agency and public review and comment, through the scoping process described below.

Environmental process: In accordance with NEPA, SAFETEA-LU section 6002, and FTA's section 5309 New Starts requirements, the project's environmental process has been divided into three general phases: Scoping; Alternatives Analysis/Draft EIS and selection of the Locally Preferred Alternative (LPA); and Final EIS.

(1) Scoping: LTD and FTA will use the scoping process to identify participating agencies, and to develop, with the review and comment of participating agencies and the public: (a) The project's purpose and need, (b) the range of alternatives to be studied in the Alternatives Analysis/Draft EIS, and (c) the evaluation methodology, including a determination of the scope of the environmental analysis to be conducted for the EIS. The scoping process will include a variety of public and agency meetings, workshops, open houses, and comment opportunities as presented above under ADDRESSES.

Section 6002 of SAFETEA-LU requires that FTA and LTD do the following: (1) Extend an invitation to other federal and non-federal agencies and Indian tribes that may have an interest in the proposed project to become participating agencies; (2) provide an opportunity for involvement by participating agencies and the public in helping to define the purpose and need for a proposed project, as well as the range of alternatives for consideration in the EIS; and (3) establish a plan for coordinating public and agency participation in and comment on the environmental review process. These section 6002 requirements will be wholly or partially satisfied during the scoping process as follows. Invitations to become a participating agency will be sent to agencies after the first Resource Agency Coordination Meeting and Field Tour, planned to occur during late September, where agencies will receive project information and have a chance to determine their level of interest in the project. LTD will create a comprehensive public involvement program and a public and agency involvement Coordination and Communication Plan. The coordination plan will be posted on the project Web site at the end of the scoping process. The public involvement program will include, in addition to the scoping process described above: outreach to local and county officials and community and civic groups; periodic meetings with various local agencies, organizations, and committees; a public hearing after release of the Draft EIS; and distribution of project newsletters and other information pieces.

(2) Alternatives Analysis/Draft EIS: During this phase, LTD and FTA will analyze and document the environmental benefits, costs, and impacts of the alternatives that were selected for further study as a result of the scoping process. Also, the Alternatives Analysis required for New Starts and Small Starts projects will be performed. A combined Alternatives Analysis/Draft EIS documenting the evaluation of alternatives and the environmental evaluations required by NEPA will be published during this phase. Following a formal public hearing on the Alternatives Analysis/Draft EIS and consideration of the comments received, this phase will conclude with selection of the locally preferred alternative, with public and participating agency input, by the Metropolitan Policy Committee, the Eugene City Council, and the LTD Board of Directors.

(3) Final EIS: In preparing the Final EIS, further study necessary to respond to comments on the Draft EIS will be conducted, responses to all comments received will be prepared, and feasible and prudent mitigation identified in the Draft EIS for all adverse environmental and community impacts will be further designed and committed to.

Alternatives: LTD expects to analyze at least three alternatives for the West 11th Avenue improvements. In developing any potential alternative, LTD would seek to enhance ridership potential, reduce costs where feasible, and avoid, minimize and mitigate adverse environmental impacts. The exact alignment of alternatives to be studied will be determined as part of the scoping process, but at a minimum will include a bus-only alternative, an alternative that would extend existing BRT service from Eugene Station to West Eugene, and a Future No-Build Alternative. The alternatives could include a variety of service configurations, design options, and infrastructure improvements. The Future No-Build Alternative would consist of the existing transportation system plus non-BRT improvements to the fixed-route transit system that are planned for and programmed to be implemented by 2030 (in other words, included in the RTP Financially Constrained Transportation Network). The Future No-Build Alternative serves as the NEPA baseline against which the environmental effects of other alternatives will be measured.

Probable effects: NEPA requires LTD and FTA to evaluate the significant impacts of the alternatives selected for study in the Draft EIS. Primary issues identified thus far include support of state, regional and local land use and transportation plans and policies, neighborhood impacts, and environmental sensitivity. The impacts will be evaluated for both the construction period and for the long-term period of operation. Measures to mitigate adverse impacts will be developed.

In accordance with FTA policy and regulations, LTD and FTA will comply with all Federal environmental laws, regulations, and executive orders applicable to the proposed project during the environmental review process to the maximum extent practicable. These requirements include, but are not limited to, the regulations of the Council on Environmental Quality and FTA implementing NEPA (40 CFR parts 1500-1508, and 23 CFR Part 771), the project-level air quality conformity regulation of the U.S. Environmental Protection Agency (EPA) (40 CFR part 93), the section 404(b)(1) guidelines of EPA (40 CFR part 230), the regulation implementing section 106 of the National Historic Preservation Act (36 CFR Part 800), the regulation implementing section 7 of the Endangered Species Act (50 CFR part 402), section 4(f) of the DOT Act (23 CFR 771.135), and Executive Orders 12898 on environmental justice, 11988 on floodplain management, and 11990 on wetlands.

Issued on: September 12, 2007.
R.F. Krochalis,
Regional Administrator, Region 10, Federal Transit Administration.

[FR Doc. E7-18339 Filed 9-17-07; 8:45 am]

BILLING CODE 4910-57-P